DEPARTMENT OF DEFENSE

Office of the Secretary

Defense Advisory Committee on Investigation, Prosecution, and Defense of Sexual Assault in the Armed Forces; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Defense Advisory Committee on Investigation, Prosecution, and Defense of Sexual Assault in the Armed Forces (DAC-IPAD) will take place.

DATES: Open to the public Friday, November 15, 2019, from 9:00 a.m. to 3:30 p.m.

ADDRESSES: Doubletree by Hilton Crystal City, 300 Army Navy Drive, Arlington, Virginia.

FOR FURTHER INFORMATION CONTACT: Dwight Sullivan, 703-695-1055 (Voice), dwight.h.sullivan.civ@mail.mil (Email). Mailing address is DACIPAD, One Liberty Center, 875 N Randolph Street, Suite 150, Arlington, Virginia 22203. Website: http://dacipad.whs.mil/. The most up-to-date changes to the meeting agenda can be found on the website.

SUPPLEMENTARY INFORMATION: Due to circumstances beyond the control of the Department of Defense (DoD) and the Designated Federal Officer, the Defense Advisory Committee on Investigation, Prosecution, and Defense of Sexual Assault in the Armed Forces was unable to provide public notification required by 41 CFR 102-3.150(a) concerning the meeting on November 15, 2019 of the Defense Advisory Committee on Investigation, Prosecution, and Defense of Sexual Assault in the Armed Forces. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the fifteenth public meeting held by the DAC-IPAD. The meeting will begin with Mr. Don Christensen, President of Protect Our Defenders, who will provide the advocacy organization's perspective on military sexual assault prosecutions, discovery, and sentencing. The Committee will conduct final deliberations and vote whether to approve the DAC-IPAD's Sexual Assault Case Adjudication Report for Fiscal Years 2015 through 2018. The Committee will receive a presentation by its Case Review Working Group on the working group's observations, findings, and assessments after having reviewed over 2,000 sexual assault investigative case files closed in fiscal year 2017 followed by Committee deliberations on the topics discussed. The DAC-IPAD's Referral Working Group will provide a status update and the Committee will conduct final deliberations on the Military Services' written responses to questions and testimony received at its August 23, 2019 public meeting related to sexual assault conviction and acquittal rates, victim participation in the military justice process and the referral process for sexual assault cases. The DAC-IPAD Director and staff will provide updates to the Committee on the Department of Defense's recent sexual assault-related collateral misconduct report and the input provided by the Committee; the military installation site visit plan for DAC-IPAD members in 2020; and sexual assault court-martial observations and attendance by members of the Committee.

Agenda: 9:00 a.m.-9:05 a.m. Public Meeting Begins—Welcome and Introduction; 9:05 a.m.-9:35 a.m. Protect Our Defenders' Perspective on Military Sexual Assault Prosecutions and Sentencing; 9:35 a.m.-9:45 a.m. Committee Final Deliberations and Vote on the DAC-IPAD's Sexual Assault Case Adjudication Report for Fiscal Years 2015-2018; 9:45 a.m.-11:45 a.m. Case Review Working Group Presentation and Deliberations; 11:45 a.m.-12:45 p.m. Lunch; 12:45 p.m.-1:00 p.m. Referral Working Group Update; 1:00 p.m.-2:45 p.m. Committee Deliberations Regarding the Services' Responses to DAC-IPAD Request for Information (RFI) Set 11 and Testimony from the August 23, 2019, DAC-IPAD Public Meeting; 2:45 p.m.-2:55 p.m. Break; 2:55 p.m.-3:00 p.m. Collateral Misconduct Report Status Update; 3:00 p.m.-3:10 p.m. 2020 Military Installation Site Visit Update; 3:10 p.m.-3:20 p.m. Court-Martial Observations Update; 3:20 p.m.-3:30 p.m. Public Comment and Meeting Wrap-Up; 3:30 p.m. Public Meeting Adjourned.

Meeting Accessibility: Pursuant to 5 U.S.C. 552b and 41 CFR 102-3.140 through 102-3.165, and the availability of space, this meeting is open to the public. Seating is limited and is on a first-come basis. Individuals requiring special accommodations to access the public meeting should contact the DAC-IPAD at whs.pentagon.em.mbx.dacipad@mail.mil at least five (5) business days prior to the meeting so that appropriate arrangements can be made. In the event the Office of Personnel Management closes the government due to inclement weather or for any other reason, please consult the website for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 3:20 p.m. to 3:30 p.m. on November 15, 2019, in front of the Committee members.

Dated: October 30, 2019.
Aaron T. Siegel,
Alternate OSD Federal Register Liaison Officer, Department of Defense.

[FR Doc. 2019-24074 Filed 11-4-19; 8:45 am]

BILLING CODE 5001-06-P